DEPARTMENT OF ENERGY

Federal Energy Regulatory Commission

[Project No. 1494-461]

Grand River Dam Authority; Notice of Application Tendered for Filing With the Commission and Establishing Procedural Schedule for Licensing and Deadline for Submission of Final Amendments

Take notice that the following hydroelectric application has been filed with the Commission and is available for public inspection.

a. Type of Application: New Major License.

b. Project No.: 1494-461.

c. Date Filed: May 30, 2023.

d. Applicant: Grand River Dam Authority (GRDA).

e. Name of Project: Pensacola Hydroelectric Project (Pensacola Project).

f. Location: The Pensacola Project is located on the Grand (Neosho) River in Craig, Delaware, Mayes, and Ottawa Counties, Oklahoma. The project occupies 8.122 acres of federal Trust Land held by the Bureau of Indian Affairs and 57.69 acres of federal wetland easements.

g. Filed Pursuant to: Federal Power Act, 16 U.S.C. 791 (a)-825(r).

h. Applicant Contact: Darrell Townsend II, Vice President, Ecosystems and Watershed Management, Grand River Dam Authority, P.O. Box 70, Langley, OK 74350; (918) 981-8472, or email at darrell.townsend@grda.com.

i. FERC Contact: Adam Peer at (202) 502-8449, or email at adam.peer@ferc.gov.

j. This application is not ready for environmental analysis at this time.

k. The Pensacola Project consists of: (1) a reservoir—known as Grand Lake O' the Cherokees (Grand Lake)—with a surface area of 46,056 acres and a storage capacity of 1,440,000 acre-feet at a water surface elevation of 745 feet Pensacola Datum (PD; Pensacola Datum is 1.07 feet lower than National Geodetic Vertical Datum of 1928 [NGVD29] and 1.4 feet higher than North American Vertical Datum of 1988 [NAVD88]); (2) a reinforced-concrete dam consisting of: (a) a west abutment connected to a 28-foot-long, west non-overflow gravity section; (b) a 4,284-foot-long, multiple arch section; (c) an 860-foot-long main spillway containing 21 radial gates; (d) an east abutment connected to a 451-foot-long, east non-overflow gravity section; (e) a 450-foot-long middle spillway section containing 11 radial gates located 0.9 mile east of the east abutment; and (f) a 410-foot-long east spillway section containing 10 radial gates located 700 feet east of the middle spillway section; (3) a 23-foot-wide by 75-foot-high intake structure and trash racks with 3.75-inch bar spacing; (4) six 15-foot-diameter penstocks supplying flow to the main powerhouse; (5) an 87.75-foot-wide by 279-foot-long by 45-foot-tall, multi-story, reinforced concrete main powerhouse containing six generating units of 17,466-kilowatt (kW) capacity each; (6) a 3-foot-diamater penstock that supplies flow to one turbine-generator of 500-kW capacity located in a powerhouse immediately downstream from the dam; (7) an approximate 270-foot-wide, 7,500-foot-long tailrace; (8) single spillway channels located downstream of each of the three spillway sections; (9) six 450 to 650-foot-long, 13.8-kilovolt generator leads connecting the turbine-generator units in the powerhouse to the project switching station; and (10) appurtenant facilities.

Under existing normal operation, when the reservoir surface elevation is below the flood pool elevation of 745 feet PD, the Pensacola Project is operated to target reservoir surface elevations known as the rule curve, which are as follows:

Period | Reservoir elevation (feet PD)
May 1 through May 31 | Raise elevation from 742 to 744.
June 1 through July 31 | Maintain elevation at 744.
August 1 through August 15 | Lower elevation from 744 to 743.
August 16 through September 15 | Maintain elevation at 743.
September 16 through September 30 | Lower elevation from 743 to 742.
October 1 through April 30 | Maintain elevation at 742.

When reservoir elevations are either above or projected to rise above the flood pool elevation of 745 feet PD, the U.S. Army Corps of Engineers (Corps) directs water releases from the project under the terms of Section 7 of the Flood Control Act of 1944. When directed to release water, GRDA first discharges as much water as possible through the project's turbine units. Once the project has reached the project's maximum hydraulic capacity, the Corps may direct GRDA to open one or more spillway gates if the reservoir is still rising, but typically not unless the reservoir elevation exceeds or is projected to exceed 745 feet PD.

GRDA implements a Storm Adaptive Management Plan (SAMP) that is used in anticipation of and during major precipitation events within the Grand/Neosho River basin that may result in high water conditions upstream or downstream of Grand Lake. If available information indicates a high probability of high water occurring, GRDA consults with the Corps to determine whether the flood pool elevation is forecasted to exceed 745 feet PD and determine whether any reservoir management actions can be taken to avoid, reduce, or minimize high water levels upstream or downstream of the project.

GRDA currently implements a Drought Adaptive Management Plan (DAMP) that guides project operations and flow releases in the event of significant drought conditions. GRDA also implements a Dissolved Oxygen Mitigation Plan that involves continuously monitoring dissolved oxygen (DO) downstream of the project dam and initiating turbine releases when DO drops below 6.5 milligrams per liter (mg/L) from October 16 to June 15 and 5.5 mg/L from June 16 to October 15.

During normal operation, GRDA proposes to no longer use a rule curve with seasonal target reservoir elevations. Instead, GRDA proposes to maintain the reservoir elevation between 742 feet and 745 feet PD year-round for the purposes of responding to grid demands, market conditions, and public interest.

GRDA proposes to continue implementing the DO Mitigation Plan, but GRDA proposes to no longer implement the SAMP and DAMP.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-1494). For assistance, contact FERC at FERCOnlineSupport@ferc.gov, (866) 208-3676 (toll free), or (202) 502-8659 (TTY). At this time, the Commission has suspended access to the Commission's Public Reference Room. For assistance, contact FERC at FERCOnlineSupport@ferc.gov or call toll free, (886) 208-3676 or TTY (202) 502-8659.

m. You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

o. Procedural schedule: The application will be processed according to the following preliminary schedule. Revisions to the schedule will be made as appropriate.

Milestone | Target date
Issue Deficiency Letter (if necessary) | June 2023.
Request Additional Information (if necessary) | July 2023.
Notice of Acceptance/Notice of Ready for Environmental Analysis | November 2023.
Filing of recommendations, preliminary terms and conditions, and preliminary fishway prescriptions | January 2024.

p. Final amendments to the application must be filed with the Commission no later than 30 days from the issuance date of the notice of ready for environmental analysis.

Dated: June 5, 2023.
Kimberly D. Bose,
Secretary.

[FR Doc. 2023-12391 Filed 6-9-23; 8:45 am]

BILLING CODE 6717-01-P